SURFACE TRANSPORTATION BOARD

[Docket No. AB 55 (Sub-No. 777X)]

CSX Transportation, Inc.—Abandonment Exemption—in Fulton County, GA

CSX Transportation, Inc. (CSXT) has filed a verified notice of exemption under 49 CFR part 1152, subpart F—Exempt Abandonments to abandon an approximately 4.40-mile rail line, referred to as the A&WP Subdivision, in its Southern Region, Atlanta Division, Atlanta Terminal between milepost XXC 0.0, which begins at the switch to the Norfolk Southern Railway Company, Oakland Junction near the Ormewood Station, and ends at milepost XXC 4.4 near Glenwood Ave. SE, in the City of Atlanta, Fulton County, Ga. (the Line). The Line traverses United States Postal Zip Codes 30310, 30312, and 30315, and includes no stations.

CSXT has certified that: (1) No local rail traffic has moved over the Line during the past two years; (2) any overhead traffic on the Line can be rerouted over other lines; (3) no formal complaint filed by a user of a rail service on the Line (or by a state or local government entity acting on behalf of such user) regarding cessation of service over the Line is either pending with the Surface Transportation Board (Board) or with any U.S. District Court or had been decided in favor of a complainant within the two-year period; and (4) the requirements at 49 CFR 1105.11 (transmittal letter), 49 CFR 1105.12 (newspaper publication), and 49 CFR 1152.50(d)(1) (notice to governmental agencies) have been met.

As a condition to this exemption, any employee adversely affected by the abandonment of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received, this exemption will be effective on February 8, 2018, unless stayed pending reconsideration. Petitions to stay that do not involve environmental issues,¹ formal expressions of intent to file an OFA under 49 CFR 1152.27(c)(2),² must be filed by January 19, 2018. Petitions to reopen or requests for public use conditions under 49 CFR 1152.28 must be filed by January 29, 2018, with the Surface Transportation Board, 395 E Street SW, Washington, DC 20423-0001.³

¹ The Board will grant a stay if an informed decision on environmental issues (whether raised by a party or by the Board's Office of Environmental Analysis (OEA) in its independent investigation) cannot be made before the exemption's effective date. See Exemption of Out-of-Serv. Rail Lines, 5 I.C.C.2d 377 (1989). Any request for a stay should be filed as soon as possible so that the Board may take appropriate action before the exemption's effective date.

² Each OFA must be accompanied by the filing fee, which currently is set at $1,800. See Regulations Governing Fees for Servs. Performed in Connection with Licensing & Related Servs.—2017 Update, EP 542 (Sub-No. 25), slip op. App. C. at 20 (STB served July 28, 2017).

³ CSXT states that it is working on agreement with Atlanta Beltline, Inc. to transfer the corridor and convert the Line to a trail under a notice of interim trail use or abandonment (NITU) agreement contingent on Board approval for authority to abandon.

A copy of any petition filed with the Board should be sent to Louis E. Gitomer, Law Offices of Louis E. Gitomer, LLC, 600 Baltimore Avenue, Suite 301, Towson, MD 21204.

If the verified notice contains false or misleading information, the exemption is void ab initio.

CSXT has filed a combined environmental and historic report that addresses the effects, if any, of the abandonment on the environment and historic resources. OEA will issue an environmental assessment (EA) by January 12, 2018. Interested persons may obtain a copy of the EA by writing to OEA (Room 1100, Surface Transportation Board, Washington, DC 20423-0001) or by calling OEA at (202) 245-0305. Assistance for the hearing impaired is available through the Federal Information Relay Service at (800) 877-8339. Comments on environmental and historic preservation matters must be filed within 15 days after the EA becomes available to the public.

Environmental, historic preservation, public use, or trail use/rail banking conditions will be imposed, where appropriate, in a subsequent decision.

Pursuant to the provisions of 49 CFR 1152.29(e)(2), CSXT shall file a notice of consummation with the Board to signify that it has exercised the authority granted and fully abandoned the Line.

If consummation has not been effected by CSXT's filing of a notice of consummation by January 9, 2019, and there are no legal or regulatory barriers to consummation, the authority to abandon will automatically expire.

Board decisions and notices are available on our website at “WWW.STB.GOV.”

Decided: January 4, 2018.
By the Board, Scott M. Zimmerman, Acting Director, Office of Proceedings.
Jeffrey Herzig,
Clearance Clerk.

[FR Doc. 2018-00210 Filed 1-8-18; 8:45 am]

BILLING CODE 4915-01-P